DEPARTMENT OF THE INTERIOR

Bureau of Ocean Energy Management

[Docket No. BOEM-2023-0046]

Notice of Intent To Prepare a Gulf of Mexico Regional Outer Continental Shelf Oil and Gas Programmatic Environmental Impact Statement

AGENCY: Bureau of Ocean Energy Management (BOEM), Interior.

ACTION: Notice of intent (NOI) to prepare a programmatic environmental impact statement (PEIS); request for comments.

SUMMARY: Consistent with the regulations implementing the National Environmental Policy Act (NEPA), BOEM announces its intent to prepare a Gulf of Mexico (GOM) Regional Outer Continental Shelf (OCS) Oil and Gas Programmatic Environmental Impact Statement (GOM Oil and Gas PEIS). The GOM Oil and Gas PEIS will analyze the potential impacts of a representative oil and gas lease sale in available OCS areas of the Western, Central, and Eastern Planning Areas (Proposed Action) and the associated potential site and activity-specific approvals resulting from a sale. This NOI announces the scoping process BOEM will use to identify significant issues and potential alternatives for consideration in the GOM Oil and Gas PEIS. The draft PEIS will include a summary of all alternatives, information, and analyses submitted during the scoping process for consideration by BOEM and the cooperating agencies.

DATES: BOEM will consider comments received by November 1, 2023. BOEM will hold two virtual public scoping meetings for the GOM Oil and Gas PEIS. The first will be held on October 17, 2023, at 6 p.m. CDT, and the second on October 19, 2023, at 1 p.m. CDT.

Additional information and registration for the public meetings may be found here: https://www.boem.gov/Gulf-of-Mexico-Oil-and-Gas-PEIS or by calling 1-800-200-4853.

ADDRESSES: Detailed information can be found on BOEM's website at: https://www.boem.gov/Gulf-of-Mexico-Oil-and-Gas-PEIS.

Written comments can be submitted through the regulations.gov web portal: Navigate to https://www.regulations.gov and search for Docket No. BOEM-2023-0046. Select the document in the search results on which you want to comment, click on the “Comment” button, and follow the online instructions for submitting your comment. A commenter's checklist is available on the comment web page. Enter your information and comment, then click “Submit.”

FOR FURTHER INFORMATION CONTACT: Helen Rucker, BOEM New Orleans Office, Office of Environment, 1201 Elmwood Park Blvd., New Orleans, Louisiana 70123, telephone (504) 736-2421, or email helen.rucker@boem.gov.

SUPPLEMENTARY INFORMATION:

Purpose of and Need for the Proposed Action

The purpose of the Federal Proposed Action is to offer for lease, and ultimately to allow for potential post-lease development through plan and permit approvals (subject to additional environmental review and regulatory oversight), those areas that may contain economically recoverable oil and gas. This purpose is consistent with BOEM's mandate to further the orderly development of OCS oil and gas resources under the OCS Lands Act. Each individual proposed lease sale would provide qualified bidders the opportunity to bid upon and lease available acreage in the GOM OCS in order to explore, develop, and produce oil and natural gas.

The need for the Proposed Action is to manage the development of OCS oil and gas resources in an environmentally and economically responsible manner. Oil from the GOM OCS contributes to meeting domestic demand; however, combustion of oil and natural gas from the GOM OCS creates greenhouse gas (GHG) emissions, fueling climate change, which poses a significant global threat. The long-term goal of the Biden administration is to reach net-zero GHG emissions by 2050 and to limit global warming to less than 1.5° Celsius. The administration also established goals of a 50 percent reduction of 2005 GHG emissions by 2030 and a carbon pollution-free power sector by 2035 (https://www.whitehouse.gov/briefing-room/statements-releases/2021/04/22/fact-sheet-president-biden-sets-2030-greenhouse-gas-pollution-reduction-target-aimed-at-creating-good-paying-union-jobs-and-securing-u-s-leadership-on-clean-energy-technologies/).

To meet these targets, the United States would have to drastically change the way it both consumes and supplies energy. An increase in renewable energy production, electrification, energy efficiency, and reduced consumption leads to less reliance on oil and gas resources and reduced demand. Refer to chapters 1.2 and 6 of the 2024-2029 National OCS Oil and Gas Leasing Proposed Final Program (2024-2029 National OCS Proposed Final Program) for details on U.S. energy needs and national and regional energy markets, respectively. Additionally, under the Inflation Reduction Act of 2022 (Pub. L. 117-169, enacted Aug. 16, 2022), Congress directed that the Secretary of the Interior must hold an offshore oil and gas lease sale(s) totaling 60 million acres in the year prior to issuing any wind energy leases.

Proposed Action and Preliminary Alternatives

The Proposed Action evaluated in this PEIS is to hold an oil and gas lease sale on the U.S. GOM OCS. This PEIS is expected to be used to inform the decision for the first GOM lease sale proposed in the 2024-2029 National OCS Oil and Gas Leasing Program. It also is expected to be used and supplemented as appropriate for decisions on future proposed GOM lease sales. In addition, this PEIS will be used for tiering of associated post-lease site and activity-specific OCS oil- and gas-related activity analyses and approvals.

In this PEIS, BOEM will analyze four alternatives to the Proposed Action: a no action alternative and three action alternatives. Because this PEIS analyzes a representative lease sale, Alternative A (No Action) is the cancellation of a single proposed GOM lease sale.

The first action alternative (Alternative B) offers all available unleased acreage in the U.S. GOM OCS, including the Western and Central Planning Areas and the portion of the Eastern Planning Area not subject to Presidential withdrawal. Alternative B correlates to Program Area 1 from the 2024-2029 National OCS Proposed Final Program and would satisfy the requirement in the Inflation Reduction Act to offer an aggregate of at least 60 million acres for offshore oil and gas leasing within a 12-month period prior to issuing offshore wind energy leases. Alternative B analyzes lease stipulations and other mitigation measures for environmental protection.

The second action alternative (Alternative C) would allow for a proposed lease sale excluding targeted portions of the Central, Western, and Eastern Planning Areas within the U.S. GOM OCS. Alternative C would satisfy the requirement in the Inflation Reduction Act to offer an aggregate of at least 60 million acres for offshore oil and gas leasing within a 12-month period prior to issuing offshore wind energy leases. Alternative C would exclude several areas for environmental protection purposes and to avoid conflicts with other ocean uses. Under this alternative, BOEM would analyze the effects of a single oil and gas sale offering at least the aggregate area required by the Inflation Reduction Act to allow wind energy leases to be issued.

The final action alternative (Alternative D) would allow for a proposed lease sale excluding even more targeted portions than Alternative C in the Central and Western Planning Areas within the U.S. GOM OCS. Alternative D would exclude more of the OCS for environmental considerations and to avoid conflicts with other ocean uses. However, this Alternative would not on its own satisfy the aggregate lease acreage requirements of the Inflation Reduction Act to issue offshore wind energy leases. Selection of this alternative would require at least one additional lease sale within a 12-month period in order to satisfy the requirements of the Inflation Reduction Act.

A complete description of the alternatives considered may be found here: https://www.boem.gov/Gulf-of-Mexico-Oil-and-Gas-PEIS.

Summary of Potential Impacts

Potential impacts to resources may include adverse or beneficial impacts on air quality; water quality; coastal communities and habitats; benthic communities and habitats (including protected corals); pelagic communities and habitats; fishes and invertebrates; birds; marine mammals; sea turtles; commercial fisheries; recreational fishing; recreational resources; land use and coastal infrastructure; social factors (including environmental justice); economic factors; and cultural, historical, and archaeological resources. These potential impacts will be analyzed in the draft and final GOM Oil and Gas PEIS.

Based on a preliminary evaluation of these resources, previous NEPA analyses, and BOEM's extensive history of leasing in the GOM, BOEM expects potential impacts on the resources listed above from routine air emissions, discharges and wastes, bottom disturbance, noise, coastal land use or modification, lighting and visual impacts, offshore habitat modification or space use, and socioeconomic changes. Additional impacts may occur from accidental events such as unintentional releases into the environment, response activities, or strikes and collisions. Past GOM oil and gas NEPA analyses (assuming analyzed mitigation measures are adopted) have shown that impacts range from negligible to moderate with most being negligible or minor and some beneficial.

Post-Lease Plan/Permit Approvals and Tiering

If the Department of the Interior ultimately decides to move forward with an individual lease sale, neither this PEIS nor the resulting individual lease sale record of decision (ROD) will authorize any immediate activities (beyond ancillary activities under a lease) or approve any individual applications for plans or permits. The GOM Oil and Gas PEIS will provide a programmatic environmental analysis and framework to support future decision-making on individual plan and permit submittals.

When plans or permit applications are submitted to BOEM or the Bureau of Safety and Environmental Enforcement, the site-specific characteristics of the project will be evaluated by preparing additional environmental analyses that may tier from this PEIS or incorporate it by reference. Based on the site-specific applications and evaluations, BOEM may then reach a site-specific determination and approve, approve with modifications, or disapprove individual plans or permits. This PEIS may inform future BOEM decision-making on plan submittals but does not approve or authorize any applications or plans. Therefore, neither this PEIS nor a resulting lease sale ROD constitutes a final agency action authorizing or approving any individual plan(s) or permit(s).

Anticipated Authorizations and Consultations

In conjunction with this PEIS, BOEM may undertake various consultations or coordination in accordance with applicable Federal laws, such as the Endangered Species Act, Magnuson‐Stevens Fishery Conservation and Management Act, National Historic Preservation Act (NHPA), and Coastal Zone Management Act, as appropriate. BOEM will also conduct government-to-government Tribal consultations.

Decision-Making Schedule

After the draft PEIS is completed, the U.S. Environmental Protection Agency will publish a notice of availability (NOA). BOEM will request public comments on the draft PEIS through its own NOA for the draft PEIS. BOEM currently expects both NOAs for the draft PEIS to be published in summer 2024. After the public comment period ends, BOEM will review and respond to comments received and will develop the final PEIS. BOEM will make the final PEIS available to the public at least 30 days prior to issuance of any ROD. If the decision is to hold a sale, the ROD will document the final decision on the area and terms to be offered in the sale, including any required mitigation (e.g., through lease stipulations).

Scoping Process

This NOI commences the public scoping process to identify issues and potential alternatives for consideration in the GOM Oil and Gas PEIS. BOEM will hold two virtual public scoping meetings as described above under the “Dates” caption and at https://www.boem.gov/Gulf-of-Mexico-Oil-and-Gas-PEIS. Throughout the scoping process, Federal agencies, Tribal, State, and local governments, and the public have the opportunity to help BOEM identify significant resources and issues, impact-producing factors, mitigation measures, and reasonable alternatives to be analyzed in the PEIS, as well as to provide additional information.

BOEM will also use the NEPA comment process to initiate the section 106 consultation process under the NHPA (54 U.S.C. 300101 et seq.), as permitted by 36 CFR 800.2(d)(3). To inform the section 106 consultation, through this notice BOEM seeks public input regarding the identification of historic properties affected by or potential effects to historic properties from activities associated with approval of oil and gas development in the GOM.

NEPA Cooperating Agencies

BOEM, as the lead agency, invites other Federal agencies and Tribal, State, and local governments to consider becoming cooperating agencies in the preparation of this PEIS. The Council on Environmental Quality (CEQ) NEPA regulations specify that qualified agencies and governments are those with “jurisdiction by law or special expertise.” Potential cooperating agencies should consider their authority and capacity to assume the responsibilities of a cooperating agency and should be aware that an agency's role in the environmental analysis neither enlarges nor diminishes the final decision-making authority of any other agency involved in the NEPA process.

Upon request, BOEM will provide potential cooperating agencies with a written summary of expectations for cooperating agencies, including schedules, milestones, responsibilities, scope and detail of cooperating agencies' expected contributions, and availability of pre-decisional information. BOEM anticipates this summary will form the basis for a memorandum of agreement between BOEM and any non-Department of the Interior cooperating agency; a memorandum of understanding is required in the case of non-Federal agencies. See 43 CFR 46.225(d). Agencies also should consider the factors for determining cooperating agency status in the CEQ memorandum entitled “Cooperating Agencies in Implementing the Procedural Requirements of the National Environmental Policy Act,” dated January 30, 2002. This document is available on the internet at: www.energy.gov/sites/prod/files/nepapub/nepa_documents/RedDont/G-CEQ-CoopAgenciesImplem.pdf.

BOEM does not provide financial assistance to cooperating agencies. Governmental entities that are not cooperating agencies will have opportunities to provide information and comments to BOEM during the public input stages of the NEPA process.

Comments

Federal agencies, Tribal, State, and local governments, and other interested parties are requested to comment on the scope of this PEIS, significant issues that should be addressed, and alternatives that should be considered. For information on how to submit comments, see the “Addresses” section above.

BOEM does not consider anonymous comments. Please include your name and address as part of your comment. Comments submitted in response to this notice are a matter of public record. You should be aware that your entire comment—including your address, phone number, email address, and other personally identifiable information included in your comment—may be made publicly available.

You may request that BOEM withhold your personally identifiable information from public disclosure. For BOEM to consider withholding from disclosure your personally identifying information, you must identify, in a cover letter, any information contained in the submittal of your comments that, if released, would constitute a clearly unwarranted invasion of your personal privacy. You must also briefly describe any possible harmful consequences from disclosing your information, such as embarrassment, injury, or other harm.

Even if BOEM withholds your information in the context of this NOI, your submission is subject to the Freedom of Information Act (FOIA). If your submission is requested under the FOIA, BOEM can only withhold your information if it determines that one of the FOIA's exemptions to disclosure applies. Such a determination will be made in accordance with the Department of the Interior's FOIA regulations and applicable law.

Additionally, under section 304 of the NHPA, BOEM is required, after consultation with the Secretary of the Interior, to withhold the location, character, or ownership of historic property if it determines that disclosure may, among other things, cause a significant invasion of privacy, risk harm to the historic property, or impede the use of a traditional religious site by practitioners. Tribal entities and other parties providing information on historic resources should designate information that they wish to be held as confidential and provide the reasons why BOEM should do so.

All submissions from organizations or businesses and from individuals identifying themselves as representatives or officials of organizations or businesses will be made available for public inspection in their entirety.

Request for Identification of Potential Alternatives, Information, and Analyses Relevant to the Proposed Action

BOEM requests data, traditional and indigenous knowledge, comments, views, information, analysis, alternatives, or suggestions relevant to the analysis of the Proposed Action from the public; affected Federal, Tribal, State, and local governments, agencies, and offices; the scientific community; industry; or any other interested party. Specifically, BOEM requests information on the following topics:

1. Potential mitigation measures, including GOM oil and gas development alternatives, and the effects these could have on:

a. Biological resources, including birds, coastal communities, benthic communities, pelagic communities, fish, invertebrates, essential fish habitat, marine mammals, and sea turtles;

b. Physical resources and conditions, including air quality, water quality, coastal habitats, benthic habitats, and pelagic habitats; and

c. Socioeconomic and cultural resources, including commercial fishing, recreational fishing, demographics, employment, economics, environmental justice, land use and coastal infrastructure, navigation and vessel traffic, other uses (such as marine minerals, military use, and aviation), recreation and tourism, and scenic and visual resources.

2. The identification of historic properties within the GOM, the potential effects on those historic properties from GOM oil and gas development, and any information that supports identification of historic properties under the NHPA. BOEM also solicits proposed measures to avoid, minimize, or mitigate any adverse effects on historic properties. If any historic properties are identified, a potential effects analysis will be available for public and NHPA consulting party comment in the draft PEIS.

3. Information on other current or planned activities in the GOM, including any mitigation measures, their possible impacts on the alternatives, and the alternatives' possible impacts on those activities.

4. Other information relevant to impacts on the human environment from potential GOM oil and gas development alternatives, including any mitigation measures.

To promote informed decision-making, comments should be as specific as possible and should provide as much detail as necessary to meaningfully and fully inform BOEM of the commenter's position. Comments should explain why the issues raised are important for consideration of the Proposed Action, as well as economic, employment, and other impacts affecting the quality of the human environment.

Authority: 42 U.S.C. 4321 et seq., and 40 CFR 1501.9.

James J. Kendall,
Regional Director, New Orleans Office, Bureau of Ocean Energy Management.

[FR Doc. 2023-21675 Filed 9-29-23; 8:45 am]

BILLING CODE 4340-98-P